DEPARTMENT OF COMMERCE

International Trade Administration

[A-570-970]

Multilayered Wood Flooring From the People's Republic of China: Correction to the Final Results of Antidumping Duty Administrative Review, Rescission of Review, in Part

AGENCY: Enforcement and Compliance, International Trade Administration, Department of Commerce.

SUMMARY: The Department of Commerce (“Department”) is amending the final results of the third administrative review of the antidumping duty (“AD”) order on Multilayered Wood Flooring (“MLWF”) from the People's Republic of China (“PRC”) to correct a ministerial error. The Department has reviewed Linyi Anying's allegation and determined that there was an error in the review of Linyi Anying's No Shipment Certification.

DATES: Effective Date: July 19, 2016.

FOR FURTHER INFORMATION CONTACT: William Horn, AD/CVD Operations, Office IV, Enforcement and Compliance, International Trade Administration, Department of Commerce, 1401 Constitution Avenue NW., Washington, DC 20230; telephone: (202) 482-2615.

SUPPLEMENTARY INFORMATION:

Background

On July 19, 2016, the Department published the final results of the third administrative review of the AD order on MLWF from the PRC.¹ On August 11, 2016, the Department published a correction to the Final Results to include a list of PRC-wide entity companies omitted from the Final Results.² Linyi Anying Wood Co., Ltd. (“Anying”) was included within the PRC-wide entity. The period of review (“POR”) is December 1, 2013, through November 30, 2014. On August 12, 2016, the Department received a ministerial error allegation on behalf of Anying.

¹ Multilayered Wood Flooring from the People's Republic of China: Final Results of Antidumping Duty Administrative Review, 2013-2014, 81 FR 46899 (July 19, 2016).

² Multilayered Wood Flooring from the People's Republic of China: Correction to the Final Results of the Antidumping Duty Administrative Review, 81 FR 53120 (August 11, 2016).

Scope of the Order

The merchandise covered by the order includes MLWF, subject to certain exceptions.³ Imports of the subject merchandise are provided for under the following subheadings of the Harmonized Tariff Schedule of the United States (“HTSUS”): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500. While HTSUS subheadings are provided for convenience and customs purposes, the written description of the subject merchandise is dispositive.

³ See Memorandum from Christian Marsh, Deputy Assistant Secretary for Antidumping and Countervailing Duty Operations to Ronald K. Lorentzen, Acting Assistant Secretary for Enforcement and Compliance, regarding “Issues and Decision Memorandum for the Final Results of the 2013-2014 Antidumping Duty Administrative Review of Multilayered Wood Flooring from the People's Republic of China,” (“Final Results IDM”), dated July 12, 2016 for a complete description of the Scope of the Order.

Ministerial Error

The Department will, if appropriate, correct any ministerial errors by amending the final results of review. Section 751(h) of the Tariff Act of 1930, as amended (“the Act”), and 19 CFR 351.224(f) define a “ministerial error” as an error “in addition, subtraction, or other arithmetic function, clerical error resulting from inaccurate copying, duplication, or the like, and any other similar type of unintentional error which the Secretary considers ministerial.”

On August 12, 2016, Anying submitted a ministerial error allegation. On August 18, 2016, Anying filed a complaint with the U.S. Court of International Trade (“CIT”) contesting the application of the PRC-entity rate on the same grounds as the ministerial error allegation.⁴ On November 10, 2016, the CIT granted the Department leave to consider the ministerial error allegation filed by Anying and, if necessary, to publish amended final results.⁵

⁴ See Linyi Anying Wood Co., Ltd and Lumber Liquidators Services, LLC vs. United States, Court No. 16-00159 (ECF Dkt. No. 6).

⁵ See id. (ECF Dkt. No. 25, dated November 10, 2016).

Anying alleges that, although the it submitted a “no shipments” certificate in the third administrative review, the Department failed to rescind the administrative review for Anying. As a result, it was incorrectly included within the PRC-entity and subject to the PRC-wide rate. We have determined that we made a ministerial error and we have determined that Anying had no shipments during the POR.⁶

⁶ For a full discussion see Memorandum from Gary Taverman, Associate Deputy Assistant Secretary for Antidumping and Countervailing Duty Operations to Ronald K. Lorentzen, Acting Assistant Secretary for Enforcement and Compliance re: Third Antidumping Administrative Review of Multilayered Wood Flooring from the People's Republic of China: Ministerial Error Memorandum (“Ministerial Error Memo”) dated concurrently with this notice.

Amended Final Results

Because the Department has determined that Anying had no shipments during the POR, we hereby rescind the review with respect to Anying. As a result, Anying will maintain its cash deposit rate from the most recently completed review in which it participated. This correction to the final results of administrative review is issued and published in accordance with sections 751(h) and 777(i)(2)(i) of the Act.

Instructions to U.S. Customs and Border Protection

Pursuant to section 751(a)(2)(C) of the Act, and 19 CFR 351.212(b)(1), the Department determines, and CBP shall assess, antidumping duties on all appropriate entries of subject merchandise, where applicable, in accordance with the amended final results of this review. If the Department determines that an exporter under review had no shipments of subject merchandise, any suspended entries that entered under that exporter's case number will be liquidated at the PRC-wide rate.⁷ The Department intends to issue assessment instructions to CBP 15 days after the date of publication of these amended final results of review.

⁷ For a full discussion of this practice, see Non-Market Economy Antidumping Proceedings: Assessment of Antidumping Duties, 76 FR 65694 (October 24, 2011).

Cash Deposit Requirements

The following cash deposit requirement will be effective July 19, 2016, for all shipments of the subject merchandise entered, or withdrawn from warehouse, for consumption on or after that date, as provided for by section 751(a)(2)(C) of the Act. For Anying, which had no reviewable transactions during the POR, the cash deposit rate will remain unchanged from the rate assigned in the most recently completed review of the company.

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 35 1.305(a)(3), which continues to govern business proprietary information in this segment of the proceeding. Timely written notification of the return/destruction of APO materials, or conversion to judicial protective order, is hereby requested. Failure to comply with the regulations and the terms of an APO is a sanctionable violation.

Notification to Interested Parties

This correction to the final results of administrative review is issued and published in accordance with sections 751(h) and 777(i)(2)(i) of the Act, and 19 CFR 351.224(e) of the Department's regulations.

Dated: February 6, 2017.
Ronald K. Lorentzen,
Acting Assistant Secretary for Enforcement and Compliance.

[FR Doc. 2017-02789 Filed 2-9-17; 8:45 am]

BILLING CODE 3510-DS-P